DEPARTMENT OF COMMERCE

International Trade Administration

[A-201-842; A-580-868; C-580-869]

Final Results of Changed Circumstances Reviews of the Antidumping Duty Orders on Large Residential Washers From the Republic of Korea and Mexico, and the Countervailing Duty Order on Large Residential Washers From the Republic of Korea

AGENCY: Enforcement and Compliance, International Trade Administration, Department of Commerce.

SUMMARY: The Department of Commerce (Commerce) determines not to revoke the antidumping duty (AD) orders on large residential washers (LRWs) from the Republic of Korea (Korea) and Mexico and the countervailing duty (CVD) order on large residential washers from Korea, in part, with respect to LRWs that (1) have a horizontal rotational axis; (2) are front loading; and (3) have a drive train consisting, inter alia, of (a) a controlled induction motor and (b) a belt drive (hereinafter, FL CIM/Belt washers).

DATES: Applicable March 13, 2019.

FOR FURTHER INFORMATION CONTACT: William Miller or Ajay Menon, AD/CVD Operations, Enforcement and Compliance, International Trade Administration, U.S. Department of Commerce, 1401 Constitution Avenue NW, Washington, DC 20230; telephone (202) 482-3906 or (202) 482-1993, respectively.

SUPPLEMENTARY INFORMATION:

Background

On November 14, 2018, Commerce published the Preliminary Results ¹ and invited comments from interested parties.² No interested party submitted comments. However, on December 21, 2018, Whirlpool Corporation (Whirlpool) submitted a request to rescind these changed circumstances reviews.³ No other party commented on Whirlpool's rescission request. We have not considered this request because Whirlpool not only submitted it approximately five months after the 90-day withdrawal deadline specified in 19 CFR 351.213(d)(1), but also after the publication of the Preliminary Results when Commerce had expended significant resources in conducting these changed circumstances reviews.

¹ See Preliminary Results of Changed Circumstances Reviews of the Antidumping Duty Orders on Large Residential Washers from the Republic of Korea and Mexico, and the Countervailing Duty Order on Large Residential Washers from the Republic of Korea, 83 FR 56808 (November 14, 2018) (Preliminary Results).

² Id., 83 FR at 56810.

³ See Whirlpool's Letter, “Large Residential Washers from the Republic of Korea and Mexico: Withdrawal of Request for Changed Circumstances Reviews,” dated December 21, 2018.

Scope of the Orders ⁴

⁴ See Large Residential Washers from Mexico and the Republic of Korea: Antidumping Duty Orders, 78 FR 11148 (February 15, 2013); and Large Residential Washers from the Republic of Korea: Countervailing Duty Order, 78 FR 11154 (February 15, 2013) (the Orders).

The products covered by the Orders are all large residential washers and certain subassemblies thereof from Korea and Mexico. The products are currently classifiable under subheadings 8450.20.0040 and 8450.20.0080 of the Harmonized Tariff System of the United States (HTSUS). Products subject to these orders may also enter under HTSUS subheadings 8450.11.0040, 8450.11.0080, 8450.90.2000, and 8450.90.6000. Although the HTSUS subheadings are provided for convenience and customs purposes, the written description of the merchandise subject to this scope is dispositive.⁵

⁵ For a full description of the scope of the order, see Preliminary Results, 83 FR at 56809-56810.

Scope of Changed Circumstances Reviews

Whirlpool requested that Commerce revoke the Orders, in part, with respect to FL CIM/Belt washers.⁶ Whirlpool proposed that Commerce amend the scope language as follows: “{A}lso excluded from the scope are automatic clothes washing machines that meet all of the following conditions: (1) Have a horizontal rotational axis; (2) are front loading; and (3) have a drive train consisting, inter alia, of (a) a controlled induction motor and (b) a belt drive.” ⁷

⁶ See Whirlpool's Letter, “Large Residential Washers from Korea and Mexico: Request for Changed Circumstances Review,” dated March 22, 2018.

⁷ Whirlpool proposed that the following words be defined as follows: (1) “front loading” means that “access to the basket is from the front of the washer;” and (2) a “controlled induction motor” is “an asynchronous, alternating current, polyphase induction motor.”

Final Results of Changed Circumstances Reviews

In the Preliminary Results, we determined that Whirlpool does not account for at least 85 percent of the production of the domestic like product and, therefore, does not account for “substantially all” of the production of the domestic like product.⁸ Therefore, we preliminarily determined not to revoke the Orders, in part, with respect to FL/CIM Belt washers.⁹ As no parties commented on the Preliminary Results, we made no changes for the final results of these changed circumstances reviews. Consequently, we continue to determine not to revoke the Orders, in part, with respect to FL/CIM Belt washers.

⁸ See Preliminary Results, 83 FR at 56810.

⁹ Id.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(b)(1) and 777(i) of the Act.

Dated: March 6, 2019.
Gary Taverman,
Deputy Assistant Secretary for Antidumping and Countervailing Duty Operations, performing the non-exclusive functions and duties of the Assistant Secretary for Enforcement and Compliance.

[FR Doc. 2019-04626 Filed 3-12-19; 8:45 am]

BILLING CODE 3510-DS-P